DEPARTMENT OF JUSTICE

Antitrust Division

Notice Pursuant to the National Cooperative Research and Production Act of 1993—National Center for Manufacturing Sciences. Inc. (“NCMS”)

Notice is hereby given that, on November 12, 1999, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership status. The notifications were filed for the purpose of extending the Act's provisions limiting the recovery of antitrust plaintiffs to actual damages under specified circumstance. Specifically, ASPSecure.com Corporation, San Jose, CA; Benchmark Electronics-Hudson Company, Hudson, NH; Ethereal Technologies, Inc., Grosse Ile, MI; Faraday Technology, Inc., Clayton, OH; Information Transport Associates, Inc., Annapolis, MD; and Precision Optical Manufacturing Company, Plymouth, MI have joined the National Center for Manufacturing Sciences, Inc. (“NCMS”) as Active members. Ohio Aerospace Institute, Cleveland, OH; and the University of New Orleans, New Orleans, LA have joined the National Center for Manufacturing Sciences, Inc. (“NCMS”) as Affiliate members. By way of unanimous written consent, the following companies have been accepted for Affiliate membership in the National Center for Manufacturing Sciences, Inc. (“NCMS”): ASM International, Materials Park, OH and Minnesota Technology, Inc., Minneapolis, MN.

Also, Applied Intelligent Systems, Inc., Ann Arbor, MI; Deneb Robotics Inc., Auburn Hills, MI; Diffracto, Windsor, Ontario, CANADA; Cardell Corporation, Auburn Hills, MI; Circo Craft Company, Pointe-Claire, Quebec, CANADA; Concentra Corporation, Burlington, MA; Giddings & Lewis, Inc., Fond du lac, WI; Imation Corporation, Oakdale, MN; Midwest Brake and Bond Company, Warren, MI; OG Technology, Inc., Ann Arbor, MI; Progressive Technologies, Inc., Grand Rapids, MI; RES Corporation, Milwaukee, WI; RWD Technologies, Inc., Auburn Hills, MI; Strategic Business Management Company, Villa Park, IL; TYCOM Corporation, Irvine, CA; Universal Flow Monitors, Hazel Park, MI; and Wizdom Systems, Naperville, IL have been dropped as Active members to this venture. Agility Forum, Bethlehem, PA; Materials Technology Laboratory, CANMET, Natural Resources Canada, Ottawa, Ontario, CANADA; National Center for Tooling & Precision Components, Toledo, OH; and ORTECH Corporation, Mississauga, Ontario, CANADA have been dropped as parties to this venture.

Active Touch Systems, Inc., has changed its name to Web Ex, Inc., Santa Clara, CA; Flavors Technology, Inc., has changed its name to R. Morley, Inc., Milford, NH; The MacNealSchwendler Corporation has changed its name to MSC.Software Corporation, Costa Mesa, CA; Ramtech Group, Inc., has changed its name to Bencym West, LLC, North Highlands, CA; and Industrial Technology Institute has changed its name to Michigan Manufacturing Technology Center, Ann Arbor, MI. Chrysler Corporation merged with Daimler-Benz AG and is now known as DaimlerChrysler AG, Auburn Hills, MI.

No other changes have been made in either the membership or planned activity of the group research project. Membership in this group research project remains open, and National Center for Manufacturing Sciences, Inc. (“NCMS”) intends to file additional written notification disclosing all changes in membership.

On February 20, 1987, National Center for Manufacturing Sciences, Inc. (“NCMS”) filed its original notification pursuant to Section 6(a) of the Act. The Department of Justice published a notice in the Federal Register pursuant to Section 6(b) of the Act on March 17, 1987 (52 FR 8375).

The last notification was filed with the Department on April 1, 1999. A notice was published in the Federal Register pursuant to Section 6(b) of the Act on May 26, 1999 (64 FR 28519).

Constance K. Robinson,
Director of Operations, Antitrust Division.

[FR Doc. 00-16473 Filed 6-28-00; 8:45 am]

BILLING CODE 4410-11-M